ENVIRONMENTAL PROTECTION AGENCY

[FRL-8481-7]

Announcement of the National Enforcement and Compliance Assurance Priorities for Fiscal Years 2008, 2009 and 2010

AGENCY: Environmental Protection Agency (EPA).

ACTION: Notice.

SUMMARY: This Notice is a Federal Agency announcement of the triennial national enforcement and compliance assurance priorities to be addressed for fiscal years 2008, 2009 and 2010. EPA appreciates the comments submitted in March 2007 during the priority identification process in response to the February 9, 2007 Federal Register Notice (72 FR 6239). The final priority selections have been incorporated into the EPA's Office of Enforcement and Compliance Assurance National Program Managers' (NPM) Guidance (which provides national program direction for all EPA Regional offices). These priorities also support implementation of the enforcement and compliance goals and objectives outlined in Goal 5 of EPA's Strategic Plan, as mandated under the Government Performance and Results Act.

FOR FURTHER INFORMATION CONTACT: Christopher Knopes, Deputy Director, National Planning Measures and Analysis Staff; telephone: (202) 564-2337 or facsimile: (202) 564-0027, e-mail address: knopes.christopher@epa.gov.

SUPPLEMENTARY INFORMATION:

A. General Information

EPA's Office of Enforcement and Compliance Assurance (OECA) selects multi-year national priorities focusing on specific environmental problems, risks, or patterns of noncompliance. A performance based strategy is developed for each national priority to characterize the problem and set goals for addressing it. The intent of this Notice is to announce EPA's enforcement and compliance assurance priorities for the years 2008-2010.

The FY 2008-2010 OECA national priorities are shown below.

• Clean Water Act—Stormwater.

• Clean Water Act—Combined Sewer Overflow.

• Clean Water Act—Sanitary Sewer Overflow.

• Clean Water Act—Concentrated Animal Feeding Operations.

• Clean Air Act—New Source Review/Prevention of Significant Deterioration.

• Clean Air Act—Air Toxics.

• RCRA & CERCLA—Financial Assurance.

• RCRA—Mineral Processing.

• Indian Country.

The FY 2005-2007 Petroleum Refining priority will not continue into FY 2008-2010 as a national priority. The priority has met its primary goal of addressing 80% of the national refining capacity and was returned to the core program at the end of FY 2006. It is important to note that discontinuation as a national priority does not mean that the Agency will no longer focus on this area, but rather the work will continue as part of the Agency's core program activities.

For each of the national priority areas, EPA has developed a strategy designed to achieve specific goals. The strategy summaries included here contain a description of the environmental problem or noncompliance problem; why the Office of Enforcement and Compliance Assurance is addressing the problem; how the problem will be addressed; and, highlights the progress made by the priorities for fiscal year 2005 through 2007. The strategy summaries can be found at http://www.epa.gov/compliance/data/planning/priorities/index.html.

Annual results information for the Office of Enforcement and Compliance Assurance can be found on EPA's Web page at: http://www.epa.gov/compliance/data/results/annual/index.html.

Annual results information for fiscal year 2007 will be available on November 16, 2007.

B. How Can I Get Copies of This Document and Related Materials?

1. Docket. EPA has established a docket for this action under Docket ID No. EPA-HQ-OECA-2007-0917. Publicly available docket materials are available either electronically through www.regulations.gov or in hard copy at the OECA Docket in the EPA Docket Center, (EPA/DC) EPA West, Room 3334, 1301 Constitution Ave., NW., Washington, DC. The EPA Docket Center Public Reading Room is open from 8:30 a.m. to 4:30 p.m., Monday through Friday, excluding legal holidays. The telephone number for the Public Reading Room is (202) 566-1744, and the telephone number for the OECA Docket is (202) 566-1752.

2. Electronic Access. You may access this Federal Register document electronically through the EPA Internet under the “Federal Register” listing at http://www.epa.gov/fedrgstr/.

Dated: October 5, 2007.
Michael M. Stahl,
Director, Office of Compliance, Office of Enforcement and Compliance Assurance.

[FR Doc. E7-20164 Filed 10-11-07; 8:45 am]

BILLING CODE 6560-50-P